DEPARTMENT OF COMMERCE

National Oceanic and Atmospheric Administration

[RTID 0648-XA394]

Pacific Fishery Management Council; Public Meetings

AGENCY: National Marine Fisheries Service, National Oceanic and Atmospheric Administration, Commerce.

ACTION: Notice of public meetings.

SUMMARY: The Pacific Fishery Management Council (Pacific Council) and its advisory entities will hold online public meetings.

DATES: The Pacific Council and its advisory entities will meet online September 8-11 and September 14-18, 2020, noting there will be no meetings on Saturday, September 12 and Sunday, September 13. The Pacific Council meeting will begin on Friday, September 11, 2020 at 8 a.m. Pacific Daylight Time (PDT), reconvening at 8 a.m. Monday, September 14, and each day through Friday, September 18, 2020. All meetings are open to the public, except a Closed Session will be held from 8 a.m. to 9 a.m., Friday, September 11, to address litigation and personnel matters. The Pacific Council will meet as late as necessary each day to complete its scheduled business.

ADDRESSES: Meetings of the Pacific Council and its advisory entities will be webinar only.

Council address: Pacific Fishery Management Council, 7700 NE Ambassador Place, Suite 101, Portland, OR 97220. Instructions for attending the meeting via live stream broadcast are given under SUPPLEMENTARY INFORMATION, below.

FOR FURTHER INFORMATION CONTACT: Mr. Chuck Tracy, Executive Director; telephone: (503) 820-2280 or (866) 806-7204 toll-free; or access the Pacific Council website, http://www.pcouncil.org for the proposed agenda and meeting briefing materials.

SUPPLEMENTARY INFORMATION: The September 8-11 and September 14-18, 2020 meeting of the Pacific Council will be streamed live on the internet. The broadcasts begin initially at 9 a.m. PDT Friday, September 11, 2020 and continue at 8 a.m. Monday, September 14 daily through Friday, September 18. No meetings are scheduled for Saturday, September 12 through Sunday, September 13, 2020. Broadcasts end when business for the day is complete. Only the audio portion and presentations displayed on the screen at the Pacific Council meeting will be broadcast. The audio portion for the public is listen-only except that an opportunity for oral public comment will be provided prior to Council Action on each agenda item. You can attend the webinar online using a computer, tablet, or smart phone, using the webinar application. Specific meeting information, including directions on how to join the meeting and system requirements will be provided in the meeting announcement on the Pacific Council's website (see www.pcouncil.org). It is recommended that you use a computer headset to listen to the meeting, but you may use your telephone for the audio-only portion of the meeting.

The following items are on the Pacific Council agenda, but not necessarily in this order. Agenda items noted as “Final Action” refer to actions requiring the Council to transmit a proposed fishery management plan, proposed plan amendment, or proposed regulations to the U.S. Secretary of Commerce, under Sections 304 or 305 of the Magnuson-Stevens Fishery Conservation and Management Act. Additional detail on agenda items, Council action, and advisory entity meeting times are described in Agenda Item A.5, Proposed Council Meeting Agenda, and will be in the advance September 2020 briefing materials and posted on the Pacific Council website at www.pcouncil.org no later than Friday, August 21, 2020.

A. Call to Order

1. Opening Remarks

2. Council Member Appointments

3. Roll Call

4. Executive Director's Report

5. Approve Agenda

B. Open Comment Period

1. Comments on Non-Agenda Items

C. Administrative Matters

1. National Marine Fisheries Service Report

2. Executive Order 13921: Promoting American Seafood Competitiveness and Economic Growth—Final Recommendations

3. Legislative Matters

4. Fiscal Matters

5. Approval of Council Meeting Record

6. Membership Appointments and Council Operating Procedures

7. Future Council Meeting Agenda and Workload Planning

D. Groundfish Management

1. Gear Switching and Sablefish Area Management Scoping

2 Workload and New Management Measure Priorities—Including the Scoping of Mothership Utilization Issues

3. Impact Analyses Methodology Review

4. Assessment Methodology Review—Final Action

5. Inseason Adjustments—Final Action

6. Update on Humpback Whale Endangered Species Act Consultation

E. Highly Migratory Species Management

1. Recommend International Management Activities

2. Exempted Fishing Permits

3. Biennial Harvest Specifications and Management Measures—Preliminary

4. Essential Fish Habitat Review

F. Ecosystem Management

1. Climate and Communities Initiative Update

2. Fishery Ecosystem Plan Five-Year Review

G. Coastal Pelagic Species Management

1. Pacific Sardine Rebuilding Plan—Final Action

H. Salmon Management

1. Reintroduction of Salmon Above Grand Coulee Dam

2. Amendment 20: Management Schedule and Klamath Management Zone Boundary Change—Final Action

3. Southern Resident Killer Whale Endangered Species Act Consultation

I. Pacific Halibut Management

1. 2021 Catch Sharing Plan and Annual Regulations

2. Transition of Area 2A Fishery Management

3. Commercial-Directed Fishery Regulations for 2021

J. Habitat Issues

1. Current Habitat Issues

Advisory Body Agendas

Advisory body agendas will include discussions of relevant issues that are on the Pacific Council agenda for this meeting and may also include issues that may be relevant to future Council meetings. Proposed advisory body agendas for this meeting will be available on the Pacific Council website https://www.pcouncil.org/ no later than Friday, August 21, 2020.

Schedule of Ancillary Meetings

Day 1—Tuesday, September 8, 2020

Coastal Pelagic Species Management Team 8 a.m.

Ecosystem Advisory Subpanel 8 a.m.

Ecosystem Workgroup 8 a.m.

Groundfish Advisory Subpanel 8 a.m.

Groundfish Management Team 8 a.m.

Highly Migratory Species Advisory Subpanel 8 a.m.

Highly Migratory Species Management Team 8 a.m.

Salmon Advisory Subpanel 8 a.m.

Salmon Technical Team 8 a.m.

Legislative Committee 10 a.m.

Day 2—Wednesday, September 9, 2020

Coastal Pelagic Species Advisory Subpanel 8 a.m.

Coastal Pelagic Species Management Team 8 a.m.

Ecosystem Advisory Subpanel 8 a.m.

Ecosystem Workgroup 8 a.m.

Groundfish Advisory Subpanel 8 a.m.

Groundfish Management Team 8 a.m.

Habitat Committee 8 a.m.

Highly Migratory Species Advisory Subpanel 8 a.m.

Highly Migratory Species Management Team 8 a.m.

Salmon Advisory Subpanel 8 a.m.

Scientific and Statistical Committee 8 a.m.

Day 3—Thursday, September 10, 2020

Coastal Pelagic Species Advisory Subpanel 8 a.m.

Coastal Pelagic Species Management Team 8 a.m.

Ecosystem Advisory Subpanel 8 a.m.

Ecosystem Workgroup 8 a.m.

Enforcement Consultants 8 a.m.

Groundfish Advisory Subpanel 8 a.m.

Groundfish Management Team 8 a.m.

Habitat Committee 8 a.m.

Highly Migratory Species Advisory Subpanel 8 a.m.

Highly Migratory Species Management Team 8 a.m.

Scientific and Statistical Committee 8 a.m.

Day 4—Friday, September 11, 2020

California State Delegation 7 a.m.

Oregon State Delegation 7 a.m.

Washington State Delegation 7 a.m.

Groundfish Advisory Subpanel 8 a.m.

Groundfish Management Team 8 a.m.

Enforcement Consultants As Necessary

* No Meetings Scheduled for Saturday, September 12 through Sunday, September 13, 2020.

Day 5—Monday, September 14, 2020

California State Delegation 7 a.m.

Oregon State Delegation 7 a.m.

Washington State Delegation 7 a.m.

Groundfish Advisory Subpanel 8 a.m.

Groundfish Management Team 8 a.m.

Enforcement Consultants As Necessary

Day 6—Tuesday, September 15, 2020

California State Delegation 7 a.m.

Oregon State Delegation 7 a.m.

Washington State Delegation 7 a.m.

Groundfish Advisory Subpanel 8 a.m.

Groundfish Management Team 8 a.m.

Enforcement Consultants As Necessary

Day 7—Wednesday, September 16, 2020

California State Delegation 7 a.m.

Oregon State Delegation 7 a.m.

Washington State Delegation 7 a.m.

Groundfish Advisory Subpanel 8 a.m.

Groundfish Management Team 8 a.m.

Enforcement Consultants As Necessary

Day 8—Thursday, September 17, 2020

California State Delegation 7 a.m.

Oregon State Delegation 7 a.m.

Washington State Delegation 7 a.m.

Enforcement Consultants As Necessary

Day 9—Friday, September 18, 2020

California State Delegation 7 a.m.

Oregon State Delegation 7 a.m.

Washington State Delegation 7 a.m.

Although non-emergency issues not contained in this agenda may come before the Pacific Council for discussion, those issues may not be the subject of formal Council action during this meeting. Council action will be restricted to those issues specifically listed in this notice and any issues arising after publication of this notice that require emergency action under section 305(c) of the Magnuson-Stevens Fishery Conservation and Management Act, provided the public has been notified of the Pacific Council's intent to take final action to address the emergency.

Special Accommodations

These meetings are physically accessible to people with disabilities. Requests for sign language interpretation or other auxiliary aids should be directed to Mr. Kris Kleinschmidt at (503) 820-2412 at least 10 business days prior to the meeting date.

Authority: 16 U.S.C. 1801 et seq.

Dated: August 17, 2020.
Tracey L. Thompson,
Acting Deputy Director, Office of Sustainable Fisheries, National Marine Fisheries Service.

[FR Doc. 2020-18250 Filed 8-19-20; 8:45 am]

BILLING CODE 3510-22-P